DEPARTMENT OF COMMERCE

National Oceanic and Atmospheric Administration

United States Global Change Research Program (USGCRP)

AGENCY: National Oceanic and Atmospheric Administration (NOAA) United States Global Change Research Program (USGCRP).

ACTION: Request for public nominations.

Context: The U.S. Global Change Research Program (USGCRP) is mandated under the Global Change Research Act (GCRA) of 1990 to conduct a quadrennial National Climate Assessment (NCA). Under its current decadal strategic plan (http://go.usa.gov/3qGU4) USGCRP is building sustained assessment capacity. The sustained assessment supports the Nation's ability to understand, anticipates, and responds to risks and potential impacts brought about by global environmental change, namely the human-caused buildup of greenhouse gases in our atmosphere that is causing climate change.

The last NCA from 2014 (NCA3: http://nca2014.globalchange.gov) and the process to develop it provided a foundation for subsequent activities and reports.

Comments have been received through a request for information on the draft, annotated outline for the Fourth National Climate Assessment (NCA4) https://www.federalregister.gov/articles/2016/07/05/2016-15807/public-comment-on-an-annotated-outline-for-the-fourth-national-climate-assessment. Informed by these comments, a revised outline, including a chapter list, is provided below and available online https://www.globalchange.gov/notices. Sectoral and response chapters will be coordinated and led by federal agencies. Regional chapters will be coordinated and led by non-federal regional chapter leads, who in turn will collaborate with federal coordinating lead authors.

For each regional chapter, a non-federal regional chapter lead must be nominated through this call for nominations and then selected by the Federal NCA4 Steering Committee. This non-federal regional chapter lead will then, with input and guidance from the Federal NCA4 Steering Committee, select federal and non-federal chapter authors and technical contributors to establish regional author teams. A federal coordinating lead author will also work with each regional chapter lead as a liaison between the regional chapter lead and federal agencies. Federal coordinating lead authors will provide technical editorial oversight of report content.

The regions that NCA4 will cover are the Northeast, Southeast and the Caribbean, Midwest, Northern Plains, Southern Plains, Southwest, Northwest, Alaska, and Hawai'i and Pacific Islands. See below in the appendix for the sectors, responses, and cross-cutting topics that will be covered.

In addition, this request presents an opportunity to submit scientific/technical information to inform the assessment. These technical inputs on sectoral, regional, and response information and cross-cutting topics will serve as part of the foundation for NCA4.

SUMMARY: NOAA, on behalf of USGCRP, is soliciting nominations for regional chapter leads, chapter authors, technical contributors and technical/scientific information for the Fourth National Climate Assessment (NCA4). Refer to the NCA4 Annotated Outline (accessible below in the Appendix and via www.globalchange.gov/notices) for further information on the scope, topics, and overarching themes for the report, as well as roles and responsibilities for nominated leads, authors, and contributors.

The report will adhere to the Information Quality Act requirements (http://www.cio.noaa.gov/services_programs/info_quality.html) for quality, transparency, and accessibility as appropriate for a Highly Influential Scientific Assessment (HISA).

DATES: Nominations should be submitted via the web address specified below (See ADDRESSES) and must be received within 30 days of publication of this Notice.

ADDRESSES: Nominations for regional chapter leads, chapter authors, and technical contributors must be submitted electronically via a web form accessible via https://www.globalchange.gov/notices. Nominees will identify their areas of expertise based on NCA4's sectoral and response topics. A short CV/resume of no more than 4 pages must be included. Technical inputs should also be submitted electronically via web form accessible from https://www.globalchange.gov/notices.

Instructions: Response to this notice is voluntary. Responses to this notice may be used by the government for program planning on a non-attribution basis. NOAA therefore requests that no business proprietary information or copyrighted information be submitted in response to this notice. Please note that the U.S. Government will not pay for response preparation, or for the use of any information contained in the response.

FOR FURTHER INFORMATION CONTACT: Emily Therese Cloyd, (202) 223-6262, ecloyd@usgcrp.gov, U.S. Global Change Research Program.

SUPPLEMENTARY INFORMATION: Background information, additional details, and instructions for submitting nominations and technical inputs can be found at www.globalchange.gov/notices. For the responsibilities and expectations of different kinds of authors and contributors, please see: www.globalchange.gov/notices. For more information about the NCA and access to previous NCA reports and activities, please see http://assessment.globalchange.gov.

Call for Nominations for Regional Chapter Leads, Chapter Authors and Technical Contributors, this notice seeks nominations for regional chapter leads, chapter authors, and technical contributors to NCA4 with pertinent subject matter expertise and scientific background. Potential nominees should be accomplished scholarly writers and have demonstrated scientific and technical expertise and academic proficiency in at least one of the regions, sectors, response, or climate science topics outlined in the NCA4 Annotated Outline, (described below in the Appendix and accessible via https://www.globalchange.gov/notices). Submissions must show that nominees have demonstrated technical backgrounds such that they could contribute to the development of a robust scientific, technical assessment as subject matter experts in one or more of the topics listed in the outline.

Responses to this request for nominations for regional chapter leads, chapter authors, and technical contributors must be submitted within 30 days of the publication of this notice. Users can access the nominations form via www.globalchange.gov/notices. Interested persons may nominate themselves or third parties, and may nominate more than one person. Each nomination must include: (1) The nominee's full name, title, institutional affiliation, and contact information; (2) the nominee's area(s) of expertise; (3) a short description of his/her qualifications relative to contributing to the report; and (4) a current resume/CV [maximum length four (4) pages].

Nominations will be reviewed and selected by the Federal NCA4 Steering Committee. Non-federal nominees may be selected and requested to serve as regional chapter leads, and other federal and non-federal nominees may be invited to participate as chapter authors or technical contributors to NCA4. Those selected as regional chapter leads will be informed no later than six weeks after the close of the nominations window. Those not selected as non-federal chapter leads may have their information passed on to Federal agencies or non-federal chapter leads for further consideration as chapter authors or technical contributors.

Call for Relevant Scientific Information to Inform NCA4

Interested parties are invited to assist in contributing, collecting, and refining the scientific information base for NCA4. To do so, parties are asked to submit recent, relevant scientific and/or technical research studies including observed, modeled and/or projected climate science information that have been peer reviewed and published or accepted for publication in scientific journals and/or government reports. For some elements of NCA4 (such as adaptation issues), relevant literature may not always be in the scientific peer-reviewed literature. These other types of literature (e.g., reports that are produced by the non-profit and business communities) may still be submitted as input. All information used in the report is expected to comply with NOAA Information Quality Act standards.

Please refer to the outline (See Appendix below for topics covered in NCA4) to target your submissions. We especially encourage submissions of regional information and information for such topics as case studies, economic valuation, and cross-cutting sectoral research. All scientific literature submitted in response to this call for information must be received by January 15, 2017. For best consideration, please submit by November 1, 2016.

Submissions must be uploaded electronically via the link provided on http://www.globalchange.gov/notices.

Appendix: NCA4 Updated Outline

I: Overview

II: Our Changing Climate

III: National Analyses/Sectoral Chapters

Water

Energy

Ecosystems, Ecosystem Services, and Biodiversity

Oceans and Marine Resources

Coastal Effects

Agriculture and Food Production

Forests

Land Cover and Land Use Change

Transportation

Built Environment, Urban Systems, and Cities

Human Health

Air Quality

Energy, Water, Land Nexus

Tribal and Indigenous Communities

North American and Other International Effects

IV: Regional Analyses

Northeast

Southeast and Caribbean

Midwest

Northern Plains

Southern Plains

Northwest

Southwest

Alaska

Hawai'i and Pacific Islands

V: Response

Near-Term Adaptation Needs and Increased Resiliency

Mitigation: Avoiding and Reducing Long-Term Risks

Dated: Thursday, August 18, 2016.

Dan Barrie, Program Manager, Assessments Program, NOAA Climate Program Office

Published on TBD.

Dated: August 25, 2016.
Jason Donaldson,
Chief Financial Officer, Office of Oceanic and Atmospheric Research, National Oceanic and Atmospheric Administration.

[FR Doc. 2016-20982 Filed 8-30-16; 8:45 am]

BILLING CODE 3510-22-P